DEPARTMENT OF HOUSING AND URBAN DEVELOPMENT

[Docket No. FR-4560-FA-16]

Housing Counseling Program; Announcement of Funding Awards for Fiscal Year 2000

AGENCY: Office of the Assistant Secretary for Housing-Federal Housing Commissioner, HUD.

ACTION: Announcement of funding awards.

SUMMARY: In accordance with section 102(a)(4)(C) of the Department of Housing and Urban Development Reform Act of 1989, this announcement notifies the public of funding decisions made by the Department in a SuperNOFA competition for funding of HUD-approved counseling agencies to provide counseling services. This announcement contains the names and addresses of the agencies selected for funding and the amount.

FOR FURTHER INFORMATION CONTACT: Margaret Burns, Director, Program Support Division, Room 9166, Office of Single Family Housing, Department of Housing and Urban Development, 451 Seventh Street, SW., Washington, DC 20410, telephone (202) 708-2121. Hearing- or speech-impaired individuals may access this number by calling the Federal Information Relay Service on 1-800-877-8339 or (202) 708-9300. (With the exception of the “800” number, these are not toll free numbers.)

SUPPLEMENTARY INFORMATION: The Housing Counseling Program is authorized by section 106 of the Housing and Urban Development Act of 1968 (12 U.S.C. 1701x). HUD enters into agreement with qualified public or private nonprofit organizations to provide housing counseling services to low- and moderate-income individuals and families nationwide. The services include providing information, advice and assistance to renters, first-time homebuyers, homeowners, and senior citizens in areas such as pre-purchase counseling, financial management, property maintenance and other forms of housing assistance to improve the clients' housing conditions and meet the responsibilities of tenancy and homeownership.

The purpose of the grant is to assist HUD-approved housing counseling agencies in providing housing counseling services to HUD-related and other clients. HUD funding of approved housing counseling agencies is not guaranteed and when funds are awarded, a HUD grant does not cover all expenses incurred by an agency to deliver housing counseling services. Counseling agencies must actively seek additional funds from other sources such as city, county, state and federal agencies and from private entities to ensure that they have sufficient operating funds. The availability of housing counseling program grants depends upon whether the U.S. Congress appropriates funds for this purpose, the amount of those funds, and the outcome of the competitions for award.

The 2000 grantees announced in this Notice were selected for funding through a competition announced in a Federal Register Notice published on February 24, 2000 (65 FR 9519) for the housing counseling program. Applications submitted for each competition were scored and selected for funding on the basis of selection criteria contained in the Notice. HUD awarded $13.1 million in housing counseling grants to 362 housing counseling agencies nationwide: 328 local agencies, 12 intermediaries, and 22 State housing finance agencies.

In accordance with section 102(a)(4)(C) of the Department of Housing and Urban Development Reform Act of 1989 (103 Stat. 1987, 42 U.S.C. 3545), the Department is publishing the names, addresses, and award amounts as provided in Appendix A.

(The Catalog of Federal Domestic Assistance number for this program is 14.169)
Dated: April 3, 2001.
Sean Cassidy,
General Deputy Assistant Secretary for Housing-Deputy Federal Housing Commissioner.

Appendix A—Recipients of Funding Awards for the Housing Counseling Program—FY 2000

Intermediary Organizations (12)

Acorn Housing Corporation, 846 N. Broad Street, Philadelphia, PA 19130, Amount Awarded: $597,474.34

Catholic Charities USA, 1731 King Street, Suite 200, Alexandria, VA 22314, Amount Awarded: $572,409.24

Citizens' Housing and Planning Association, 18 Tremont Street, Suite 401, Boston, MA 02108, Amount Awarded: $418,142.75

Housing Opportunities, Inc., 133 Seventh Avenue, P.O. Box 9, McKeesport, PA 15134, Amount Awarded: $522,467.07

National Association of Housing Partnerships, Inc., 160 State Street, 5th Floor, Boston, MA 02109, Amount Awarded: $633,462.83

National Association of Real Estate Brokers, 1301 East 85th Avenue, Oakland, CA 94621-1605, Amount Awarded: $393,876.39

National Council of La Raza, 1111 19th Street, NW, Suite 1000, Washington, DC 20036, Amount Awarded: $558,878.33

National Foundation for Consumer Credit, 8611 Second Avenue, Suite 100, Silver Spring, MD 20910, Amount Awarded: $675,770.39

National Urban League, 120 Wall Street, New York, NY 10005, Amount Awarded: $563,200.75

Neighborhood Reinvestment Corporation, 1325 G Street, NW, Suite 800, Washington, DC 20005-3100, Amount Awarded: $670,085.51

The Congress of National Black Churches, Inc., 1225 Eye Street, NW, Suite 750, Washington, DC 20005-3914, Amount Awarded: $522,208.64

West Tennessee Legal Services, Inc., 210 West Main Street, P.O. Box 2066, Jackson, TN 38302-2066, Amount Awarded: $372,023.76

State Housing Finance Agencies (22)

Atlanta (SHFA)

Alabama Housing Finance Authority, 2000 Interstate Park, Suite 408, Montgomery, AL 36109, Amount Awarded: $35,284.00

Georgia Housing & Finance Authority, 60 Executive Park South, Atlanta, GA 30329-2231, Amount Awarded: $55,967.00

Kentucky Housing Corporation, 1231 Louisville Road, Frankfort, KY 40601, Amount Awarded: $54,751.00

Mississippi Home Corporation, 735 Riverside Drive, P.O. Box 23369, Jackson, MS 39225-3369, Amount Awarded: $50,492.00

South Carolina State Housing Finance & Development Auth., 919 Bluff Road, Columbia, SC 29201, Amount Awarded: $57,791.00

Denver (SHFA)

Kansas Department of Commerce & Housing, Division of Housing, 700 SW Harrison, Suite 1300, Topeka, KS 66603-3712, Amount Awarded: $43,301.00

New Mexico Mortgage Finance Authority, 344 Fourth Street SW, Albuquerque, NM 87102, Amount Awarded: $55,507.00

North Dakota Housing Finance Agency, P.O. Box 1535, Bismarck, ND 58502-1535, Amount Awarded: $50,857.00

South Dakota Housing Development Authority, P.O. Box 1237, Pierre, SD 57501, Amount Awarded: $35,000.00

State of Texas (Dept of Housing and Community Affairs), 507 Sabine, Suite 900, P.O. Box 13941, Austin, TX 78711-3941, Amount Awarded: $49,985.00

Philadelphia (SHFA)

Connecticut Housing Finance Agency, 999 West Street, Rocky Hill, CT 06067, Amount Awarded: $26,714.00

Delaware State Housing Authority, Carvel State Building, 801 North French Street—10th Floor, Wilmington,, DE 19801, Amount Awarded: $24,850.00

Maine State Housing Authority, 353 Water Street, Augusta, ME 04330-4633, Amount Awarded: $27,646.00

Maryland Department of Housing and Community Development, 100 Community Place, Crownsville, MD 21032, Amount Awarded: $22,054.00

Massachusetts Housing Finance Agency, One Beacon St., Boston, MA 02108, Amount Awarded: $24,229.00

New Hampshire Housing Finance Authority, P.O. Box 5087, Manchester, NH 03108, Amount Awarded: $27,646.00

Pennsylvania Housing Finance Agency, 2101 North Front St., Harrisburg, PA 17105, Amount Awarded: $23,298.00

Rhode Island Housing & Mortgage Finance Corporation, 44 Washington St. , Providence, RI 02903, Amount Awarded: $31,376.00

State of Michigan, 401 S. Washington Square, Lansing, MI 48909, Amount Awarded: $31,376.00

Virginia Housing Development Authority, 601 S. Belvidere St., Richmond, VA 23220, Amount Awarded: $27,956.00

Santa Ana (SHFA)

Oregon Housing and Community Service Department, 1600 State Street, Salem, OR 97301-4246, Amount Awarded: $118,292.00

Washington State Housing Finance Commission, 1000 Second Avenue, Suite 2700, Seattle, WA 98104-1046, Amount Awarded: $105,993.00

Local Organizations (328)

Atlanta (HOC)

Access Living of Metropolitan Chicago, 310 South Peoria Street, Suite 201, Chicago, IL 60607 Amount Awarded: 20,847.00, Amount Awarded: $20,847.00

Affordable Housing Coalition, 34 Wall Street, Suite 607, Asheville, NC 28801, Amount Awarded: $8,160.00

Alabama Council on Human Relations, P.O. Drawer 1632, 319 West Glenn Avenue, Auburn, AL 36831-1632, Amount Awarded: $6,227.00

Anderson Council on Housing Authority, 528 West 11th Street, Anderson, IN 46016, Amount Awarded: $9,727.00

Appalachian Housing & Redevelopment (Rome Housing Authority), 800 North Fifth Avenue, Rome, GA 30162, Amount Awarded: $13,101.00

Birmingham Urban League, Inc., 1717 4th Avenue North, P.O. Box 11269, Birmingham, AL 35202-1269, Amount Awarded: $6,116.00

C.C.C.S. of Middle Tennessee, Inc., P.O. Box 160328, Nashville, TN 37216-0328, Amount Awarded: $9,618.00

Campbellsville Housing and Redevelopment Authority, P.O. Box 597, 400 Ingram Ave., Campbellsville, KY 42719, Amount Awarded: $7,653.00

Carolina Regional Legal Services, Inc., P.O. Box 479, 279 West Evans Street, Florence, SC 29503-0479, Amount Awarded: $7,971.00

CEIBA Housing & Economic Development Corporation, Ave., Lauro Pinero #252, P.O. Box 203, Ceiba, PR 00735, Amount Awarded: $43,477.00

Central Florida Community Development Corp., P.O. Box 15065, Daytona Beach, FL 32115, Amount Awarded: $13,376.00

Chicago Commons, 915 North Wolcott Avenue, Chicago, IL 60622, Amount Awarded: $19,145.00

Citizens for Affordable Housing, Inc., 1719 West End Avenue, Suite 607 W, Nashville, TN 37203, Amount Awarded: $10,476.00

City of Albany, Georgia, 230 S. Jackson St., Suite 315, Albany, GA 31701, Amount Awarded: $22,676.00

City of Bloomington, P.O. Box 100, 401 N. Morton Street, Bloomington, IN 47402, Amount Awarded: $8,214.00

Cobb Housing, Inc., 700 Sandy Plains Road, Suite B-8, Marietta, GA 30066, Amount Awarded: $16,629.00

Community Action & Community Development Agency O, P.O. Box 1788, 207 Commerce Circle, SW, Decatur, AL 35602, Amount Awarded: $10,564.00

Community Action Agency Huntsville/Madison & Limestone, 3516 Stringfield Road, P.O. Box 3975, Huntsville, AL 35810-0975, Amount Awarded: $6,450.00

Community Action Agency of Northwest AL, 745 Thompson Street, Florence, AL 35630, Amount Awarded: $7,784.00

Community Action of Greater Indianapolis, Inc., 2445 North Meridian Street, Indianapolis, IN 46208, Amount Awarded: $8,970.00

Community and Economic Development Assoc. of Cook County, 208 South LaSalle, Suite 1900, Chicago, IL 60604-1001, Amount Awarded: $22,000.00

Community Equity Investments, Inc. (CEII), 302 North Barcelona Street, Pensacola, FL 32501, Amount Awarded: $17,000.00

Consumer Credit Counseling Service of Western NC, 50 South French Broad Ave., Suite 212, Ashville, NC 28801, Amount Awarded: $8,160.00

Consumer Credit Counseling of NWI, Inc., 3637 Grant Street, Gary, IN 46408-1439, Amount Awarded: $9,186.00

Consumer Credit Counseling Service, 220 Coral Sands Drive, Rockledge, FL 32955, Amount Awarded: $19,293.00

Consumer Credit Counseling Service of East TN, 1011 North Broadway, P.O. Box 3924, Knoxville, TN 37927, Amount Awarded: $6,573.00

Consumer Credit Counseling Service of FL. Gulf Coast, Inc., 5201 W. Kennedy Blvd., Suite 110, Tampa, FL 33609, Amount Awarded: $32,431.00

Consumer Credit Counseling Service of Greater Chicago, 150 N. Wacker Drive, Suite #1400, Chicago, IL 60606, Amount Awarded: $20,500.00

Consumer Credit Counseling Service of Palm Beach Co., 2330 Congress Avenue South, Suite 1A, West Palm Beach, FL 33406, Amount Awarded: $47,538.00

Consumer Credit Counseling Service of South FL, 11645 Biscayne Blvd. #205, No. Miami, FL 33181, Amount Awarded: $50,000.00

Consumer Credit Counseling Service of West Florida, 14 Palafox Place, Pensacola, FL 32501, Amount Awarded: $12,409.00

Craig Stanley Agency, Inc., 2202 E. Elm Street, New Albany, IN 47150, Amount Awarded: $5,620.00

Cumberland Community Action Program, Inc., P.O. Box 2009, 328 Gillespie Street, Fayetteville, NC 28302, Amount Awarded: $8,323.00

Dallas-Selma Community Action Community Development Corporation, 713 Jeff Davis Avenue, P.O. Box 988, Selma, AL 36701, Amount Awarded: $6,200.00

Davidson County Community Action, Inc., P.O. Box 389, Lexington, NC 27293-0389, Amount Awarded: $6,000.00

Dekalb Fulton Housing Counseling Center, Inc., 4151 Memorial Drive, Suite 107-E, Decatur, GA 30032, Amount Awarded: $50,000.00

Dupage Homeownership Center, Inc., 1333 North Main Street, Wheaton, IL 60187, Amount Awarded: $20,847.00

East Winston Community Dev. Corp, 1225 E. Fifth Street, Winston-Salem, NC 27101, Amount Awarded: $7,018.00

Economic Opportunity for Savannah-Chatham County Area, Inc., 618 West Anderson Street, Savannah, GA 31401, Amount Awarded: $24,187.00

Elizabeth City State University, 1704 Weeksville Road, Campus Box 790, Elizabeth City, NC 27909, Amount Awarded: $8,160.00

Empowerment, Inc., 705A West Rosemary Street, Carrboro, NC 27510, Amount Awarded: $7,018.00

Family and Children's Services of Chattanooga, Inc., Osborne Office Park, 6000 Building, Suite 2300, Chattanooga, TN 37411, Amount Awarded: $7,738.00

Family Counseling Services, 1639 Atlantic Boulevard, Jacksonville, FL 32207, Amount Awarded: $13,173.00

Family Service Center, 1800 Main Street, Columbia, SC 29201, Amount Awarded: $7,239.00

Family Services, Inc., 4925 Lacross Road, Suite 215, North Charleston, SC 29406, Amount Awarded: $6,181.00

Gainesville/Hall County Neighborhood Revitalization, P.O. Box 642, Gainesville, GA 30503, Amount Awarded: $13,600.00

Gate City Community Development Corp., 414 Martin Luther King Jr. Drive, Greensboro, NC 27406, Amount Awarded: $7,344.00

Gulf Coast Community Action Agency, Inc., 500 24th Street, P.O. Box 519, Gulfport, MS 39502-0519, Amount Awarded: $10,347.00

Gwinnett Housing Resource Partnership, Inc., 3453 Holcomb Bridge Road, Suite 140, Norcross‘, GA 30092, Amount Awarded: $24,691.00

Hammond Housing Authority, 7329 Columbia Circle West, Hammond, IN 46324, Amount Awarded: $9,943.00

Hoosier Uplands Economic Development Corporation, 521 West Main Street, Mitchell, IN 47446, Amount Awarded: $7,133.00

Hope of Evansville, Inc., 608 Cherry Street, Evansville, IN 47713, Amount Awarded: $10,375.00

Hope, Incorporated, 1011 Cherry Avenue, Nashville, TN 37203, Amount Awarded: $14,428.00

Housing and Economic Leadership Partners, Inc., 485 Huntington Road, Suite 200, Athens, GA 30606, Amount Awarded: $22,172.00

Housing and Neighborhood Dev. Serv of Central Florida, 2211 Hillcrest St, Orlando, FL 32803, Amount Awarded: $25,466.00

Housing Authority of the Birmingham District, 1826 3rd Avenue South, Birmingham, AL 35233, Amount Awarded: $8,785.00

Housing Authority of the City of Fort Wayne, P.O. Box 13489, 2013 South Anthony Blvd., Fort Wayne, IN 46869-3489, Amount Awarded: $9,943.00

Housing Authority of the City of High Point, 500 East Russell Avenue, High Point, NC 27260, Amount Awarded: $6,936.00

Housing Authority of the County of Lake, IL, 33928 North Route 45, Grayslake, IL 60030, Amount Awarded: $20,047.00

Housing Development Corporation of St. Joseph County, 521 Eclipse Place, South Bend, IN 46628, Amount Awarded: $9,835.00

Housing Education and Economic Development, 3405 Medgar Evers Blvd., Jackson, MS 39213, Amount Awarded: $18,004.00

Interfaith Housing Development Corporation, 620 Lincoln Avenue, Winnetka, IL 60093, Amount Awarded: $18,932.00

Johnston-Lee Community Action, Inc., P.O. Drawer 711, 1102 Massey Street, Smithfield, NC 27577, Amount Awarded: $6,365.00

Knoxville Area Urban League, Inc., 1514 East Fifth Avenue, Knoxville, TN 37917, Amount Awarded: $5,990.00

Knoxville Legal Aid Society, Inc., 502 S. Gay Street, Suite 404, Knoxville, TN 37902, Amount Awarded: $7,738.00

Lake County, 2293 North Main Street, Crown Point, IN 46307, Amount Awarded: $5,728.00

Latin American Association, 2665 Buford Highway, Atlanta, GA 30324, Amount Awarded: $20,912.00

Latin United Community Housing Association, 3541 W. North Avenue, Chicago, IL 60647, Amount Awarded: $22,000.00

Legal Assistance Foundation of Chicago, 111 West Jackson Blvd., Chicago, IL 60604, Amount Awarded: $20,500.00

Legal Services of Upper East TN, Inc., 311 West Walnut Street, P.O. Drawer 360, Johnson City, TN 37605-0360, Amount Awarded: $6,740.00

Lincoln Hills Development Corporation, 302 Main Street, P.O. Box 336, Tell City, IN 47586, Amount Awarded: $9,186.00

Louisville Urban League, 1535 West Broadway, Louisville, KY 40203, Amount Awarded: $8,231.00

Manatee Opportunity Council, Inc., 369 6th Avenue West, Bradenton, FL 34205, Amount Awarded: $31,517.00,

Memphis Area Legal Services, 109 N. Main, Suite 200, Memphis, TN 38103-5013, Amount Awarded: $58,281.00

Miami Beach Community Development Corporation, 1205 Drexel Avenue, Miami Beach, FL 33139, Amount Awarded: $40,000.00

Mid-Florida Housing Partnership, Inc., P.O. Box 1345, 330 North Street, Daytona Beach, FL 32115, Amount Awarded: $16,206.00

Mobile Housing Board, 151 South Claiborne Street, P.O. Box 1345, Mobile, AL 36633-1345, Amount Awarded: $7,562.00

Muncie Homeownership and Development Center, 223 S. Walnut Street, Muncie, IN 47305, Amount Awarded: $9,403.00

Neighborhood Legal Assistance, 438 King Street, Charleston, SC 29403, Amount Awarded: $6,589.00

Northern Kentucky Community Center, 824 Greenup Street, P.O. Box 2030, Covington, KY 41011, Amount Awarded: $5,796.00

Northwestern Regional Housing Authority, P.O. Box 2510, Hwy. 105 Ext., Boone, NC 28607, Amount Awarded: $8,160.00

Palmetto Legal Services, 2109 Bull Street, P.O. Box 2267, Columbia, SC 29202, Amount Awarded: $5,856.00

Ponce Neighborhood Housing Service, Inc., Calle Mendez Vigo #57, P.O. Box 330223, Ponce, PR 00733-0223, Amount Awarded: $43,476.00

Purchase Area Housing Corporation, P.O. Box 588, Mayfield, KY 42066, Amount Awarded: $6,028.00

Rogers Park Community Council, 1772 W. Lunt Avenue, Chicago, IL 60626, Amount Awarded: $11,700.00

Sacred Heart Southern Missions Housing Corp., 6144 Highway 161 North, P.O. Box 365, Walls, MS 38680, Amount Awarded: $18,004.00

Sandhills Community Acton Program, Inc., 103 Saunders Street, P.O. Box 937, Carthage, NC 28327, Amount Awarded: $7,344.00

South Suburban Housing Center, 18220 Harwood Avenue, Suite 1, Homewood, IL 60430, Amount Awarded: $21,274.00

Spanish Coalition for Housing, 4035 West North Avenue, Chicago, IL 60639, Amount Awarded: $22,000.00

Tallahassee Urban League, Inc., 923 Old Bainbridge Road, Tallahassee, FL 32303, Amount Awarded: $9,546.00

Tenant Services & Housing Counseling, Inc., 136 N. Martin Luther King Blvd., Lexington, KY 40507, Amount Awarded: $11,593.00

The Agricultural & Labor Program, Inc., P.O. Box 3126, Winter Haven, FL 33885, Amount Awarded: $20,000.00

The Housing Authority of the City of Montgomery, 1020 Bell Street, Montgomery, AL 36104, Amount Awarded: $7,450.00

Trident United Way, 6296 Rivers Avenue, North Charleston, SC 29419, Amount Awarded: $6,181.00

Unified Government of Athens-Clarke County, 155 E. Washington St., P.O. Box 1868, Athens, GA 30603, Amount Awarded: $15,873.00

United Family Services, 301 South Brevard Street, Charlotte, NC 28202, Amount Awarded: $7,915.00

Urban League of Greater Columbus, 802 First Avenue, Columbus, GA 31901, Amount Awarded: $12,849.00

Vollintine-Evergreen Community Association (VECA)-CDC, 1680 Jackson Avenue, Memphis, TN 38107, Amount Awarded: $42,781.00

Wateree Community Action, Inc., Post Office Box 1838, 13 South Main Street, Sumter, SC 29151, Amount Awarded: $6,913.00

West Perrine Community Development Corporation, 17623 Homestead Avenue, Miami, FL 33157, Amount Awarded: $40,000.00

Wil-Low Nonprofit Housing, Inc., P.O. Box 383, 200 A Commerce Street, Hayneville, AL 36040, Amount Awarded: $6,338.00

Wilson Community Improvement Association, Inc., 504 E. Green Street, Wilson, NC 27893, Amount Awarded: $7,507.00

Woodbine Community Organization, 222 Oriel Avenue, Nashville, TN 37210, Amount Awarded: $16,145.00

Wyman Fields Foundation, Inc., 207 N. Moss Road, Suite 105, Winter Springs, FL 32708, Amount Awarded: $18,521.00

Denver (HOC)

Adams County Housing Authority, 7190 Colorado Blvd., Commerce City, CO 80022, Amount Awarded: $20,714.00

Avenida Guadalupe Association, 1327 Guadalupe Street, San Antonio, TX 78207, Amount Awarded: $29,161.00

Black Hills Legal Services, Inc., 621 6th Street, Suite 202, P.O. Box 1500, Rapid City, SD 57709, Amount Awarded: $3,575.00

Boulder County Housing Authority, PO Box 471, Boulder, CO 80306, Amount Awarded: $18,539.00

Brothers Redevelopment, Inc. 2250 Eaton St., Garden Level, Suite B, Denver, CO 80214, Amount Awarded: $16,468.00

Carver County Housing & Redevelopment Authority, 500 N. Pine Street, Suite 204, Chaska, MN 55318, Amount Awarded: $12,508.00

CCCS of Central Oklahoma, Inc., 3230 N. Rockwell Avenue, Bethany, OK 73008, Amount Awarded: $13,736.00

CCCS of Greater Dallas, Inc., 8737 King George Dr., Suite 200, Dallas, TX 75235 Amount Awarded: $65,105.00

CCCS of Northeastern Iowa, 1003 West 4th Street, Waterloo, IA 50702, Amount Awarded: $4,429.00

CCCS of Salina, 1201 West Walnut, Salina, KS 67401, Amount Awarded: $15,376.00

CCCS of the Black Hills, Inc., 111 Saint Joseph Street, Rapid City, SD 57709, Amount Awarded: $3,421.00

Chickasaw Nation, Division of Housing, P.O. Box 788, Ada, OK 74821, Amount Awarded: $9,688.00

City of Des Moines (Services for Homeowner's Program (SHOP)), Department of Community Development, 602 East First Street, Des Moines, IA 50309-1881, Amount Awarded: $5,074.00

City of Fort Worth, Housing Department, 1000 Throckmorton Street, Fort Worth, TX 76102, Amount Awarded: $55,992.00

City of San Antonio, 115 Plaza de Armas, Suite 230, San Antonio, TX 78205, Amount Awarded: $26,363.00

City Vision Ministries, Inc., 1321 N. 7th Street, Kansas City, KS 66101, Amount Awarded: $12,207.00

Community Action Agency of Oklahoma City and OK/CN Counties, 1900 NW 10th Street, Oklahoma City, OK 73106, Amount Awarded: $13,085.00

Community Action for Suburban Hennepin, 33 10th Avenue South, Suite 150, Hopkins, MN 55343, Amount Awarded: $17,492.00

Community Action Services, 257 East Center Street, Provo, UT 84606, Amount Awarded: $21,923.00

Community Action, Inc. of Rock and Walworth Counties, 2300 Kellogg Avenue, Janesville, WI 53546, Amount Awarded: $9,959.00

Community Development Authority of the City of Madison, 215 Martin Luther King Jr Blvd, Ste 318, P.O. Box 1785, Madison, WI 53701-1785, Amount Awarded: $16,236.00

Community Development Corporation of Brownsville, 1150 E. Adams St., Second Floor, Brownsville, TX 78520, Amount Awarded: $29,161.00

Community Development Support Association (CDSA), 2615 E. Randolph, Enid, OK 73701, Amount Awarded: $10,199.00

Community Services League, 300 W. Maple, P.O. Box 4178, Independence, MO 64051, Amount Awarded: $15,011.00

Crowley's Ridge Development Council, Inc., 249 S. Main, P.O. Box 1497, Jonesboro, AR 72401, Amount Awarded: $9,625.00

Dallas Urban League, 4315 South Lancaster Road, Dallas, TX 75216, Amount Awarded: $45,956.00

Desire Community Housing Corporation, 2709 Piety Street, New Orleans, LA 70131, Amount Awarded: $15,779.00

District 7 Human Resources Development Council, 7 North 31st Street, P.O. Box 2016, Billings, MT 59103, Amount Awarded: $4,483.00

E'TRAD (Education, Training, Research and Development), 4820 Santana Circle, Suite A, Columbia, MO 65203, Amount Awarded: $13,842.00

East Arkansas Leal Services, P.O. Box 1149, 500 East Broadway, West Memphis, AR 72303, Amount Awarded: $11,616.00

Family Housing Advisory Services, Inc., 2416 Lake Street, Omaha, NE 68111, Amount Awarded: $17,105.00

Family Life Center/Utah State University, 493 North 700 East, Logan, UT 84321, Amount Awarded: $17,383.00

Family Management Credit Counselors, Inc. (FMCCI), 1409 W. 4th Street, Waterloo, IA 50702, Amount Awarded: $4,693.00

Family Service Agency, 4504 Burrow Drive, P.O. Box 16615, North Little Rock, AR 72231-6615, Amount Awarded: $10,537.00

Grand Junction Housing Authority, 805 Main Street, Grand Junction, CO 81501, Amount Awarded: $16,468.00

Greater Kansas City Housing Information Center, 3810 Paseo, Kansas City, MO 65109-2721, Amount Awarded: $15,926.00

Gulf Coast Community Services Association, 5000 Gulf Freeway, Houston, TX 77023, Amount Awarded: $100,000.00

Hawkeye Area Community Action Program, Inc., 5560 6th SW, P.O. Box 789, Cedar Rapids, IA 52406-0789, Amount Awarded: $5,573.00

Housing and Credit Couseling, Inc., 1195 SW Buchanan, Suite 101, Topeka, KS 66604-1183, Amount Awarded: $15,255.00

Housing Authority of the Cherokee Nation, P.O. Box 1007, Tahlequah, OK 74465, Amount Awarded: $14,062.00

Housing Authority of the City of Lawton, OK, 609 Southwest Avenue, Lawton, OK 73501, Amount Awarded: $11,968.00

Housing Options Provided for the Elderly, 4265 Shaw Avenue, St. Louis, MO 63110, Amount Awarded: $5,000.00

Housing Partners of Tulsa, Inc., 415 E. Independence, P.O. Box 6369, Tulsa, OK 74148-0369, Amount Awarded: $28,648.00

In Affordable Housing, Inc., 1200 John Barrow Rd., Ste 109, Little Rock, AR 72205, Amount Awarded: $12,943.00

Justine Petersen Housing & Reinvestment Corp., 5031 Northrup, St. Louis, MO 63110, Amount Awarded: $19,099.00

Lafayette Consolidated Government, P.O. Box 4017-C, Lafayette, LA 70502-4017, Amount Awarded: $14,879.00

Legal Aid Service of N.E. Minnesota, 302 Ordean Building, 424 W. Superior Street, Duluth, MN 55802, Amount Awarded: $10,627.00

Legal Services of Eastern Missouri, Inc., 4232 Forest Park Avenue, St. Louis, MO 63108, Amount Awarded: $19,529.00

Lincoln Action Program, Inc., 210 O Street, Lincoln, NE 68508, Amount Awarded: $15,488.00

Marshall Housing Authority, 1401 Poplar Street, P.O. Box 609, Marshall, TX 75671, Amount Awarded: $25,296.00

Neighbor to Neighbor, Inc., 424 Pine Street, Suite 203, Fort Collins, CO 80524, Amount Awarded: $18,228.00

Norman Housing Authority, 700 N. Berry Rd., Norman, OK 73069, Amount Awarded: $11,735.00

Northeast Denver Housing Center, 1735 Gaylord St., Denver, CO 80206, Amount Awarded: $15,121.00

Northeast Kansas Community Action Program (NEK-CAP, Inc.), Community Services Department, P.O. Box 380, Hiawatha, KS 66434, Amount Awarded: $15,986.00

Northwest Montana Human Resources, Inc., 214 Main, P.O. Box 8300, Kalispell, MT 59904-1300, Amount Awarded: $4,103.00

Oglala Sioux Tribe Partnership for Housing, Inc., P.O. Box 3001, Pine Ridge, SD 57770, Amount Awarded: $3,355.00

Our Casas Resident Council, Inc., 3006 Guadalupe Street, San Antonio, TX 78207, Amount Awarded: $18,410.00

Parish of Jefferson, 1221 Elmwood Park Blvd., Suite 402, Jefferson, LA 70123, Amount Awarded: $13,898.00

Project Bravo Inc., 4838 Montana Avenue, El Paso, TX 79903, Amount Awarded: $49,242.00

San Antonio Development Agency, 115 E. Travis Street, Suite 800, San Antonio, TX 78205, Amount Awarded: $18,557.00

Senior Housing, Inc., 2021 East Hennipin, Suite 130, Minneapolis, MN 55413, Amount Awarded: $16,646.00

Southeastern North Dakota Community Action Agency, 3233 South University Drive, P.O. Box 2683, Fargo, ND 58104, Amount Awarded: $13,495.00

Southwest Community Resources, 295 Girard Street, Durango, CO 81301, Amount Awarded: $14,293.00

St. Martin, Iberia, Lafayette Community Action Agency, Inc., 501 St. John Street, P.O. Box 3343, Lafayette, LA 70502, Amount Awarded: $12,100.00

St. Mary Community Action Committee Assoc., Inc., PO Box 271, Franklin, LA 70538, Amount Awarded: $12,427.00

St. Paul Housing Information Office, 25 West Fourth Street, Room 150, St. Paul, MN 55102, Amount Awarded: $12,414.00

St. Paul Urban League, 401 Selby Avenue, St. Paul, MN 55102, Amount Awarded: $16,552.00

T.A.C.T.I.C.S., Inc., (DBA Pilot City Neigbhorhood Service Ct), 1315 Penn Avenue North, Minneapolis, MN 55411, Amount Awarded: $13,637.00

Tarrant County Housing Partnership, Inc., 603 West Magnolia Ave., Suite 207, Ft. Worth, TX 76104, Amount Awarded: $49,354.00

The Center for Assistance & Direction/CCCS of Gtr Siouxland, 715 Douglas Street, Sioux City, IA 51101-1021, Amount Awarded: $3,490.00

Universal Housing Development Corp., PO Box 846, Russellville, AR 72811, Amount Awarded: $10,869.00

Urban League of Wichita, Inc., 1802 East 13th Street N., Wichita, KS 67214, Amount Awarded: $14,767.00

West Central Missouri Community Action Agency, PO Box 125, 106 W. 4th, Appleton City, MO 64724, Amount Awarded: $15,743.00

Women's Opportunity & Resource Development, 127 N. Higgins, Missoula, MT 59802, Amount Awarded: $4,635.00

Your Community Connection, 2261 Adams, Ogden, UT 84401, Amount Awarded: $15,000.00

Philadelphia (HOC)

Albany County Rural Housing Alliance, Inc., P.O. Box 407, 24 Martin Road, Voorheesville, NY 12186, Amount Awarded: $12,129.00

Arlington Housing Corporation, 2300 S. 9th St., #200, Arlington, VA 22204, Amount Awarded: $12,676.00

Asian Americans for Equality, Inc., 111 Division Street, New York, NY 10002, Amount Awarded: $17,952.00

Atlantic Human Resources, Inc., One South New York Ave., Atlantic City, NJ 08401, Amount Awarded: $10,000.00

Belmont Shelter Corporation, 1195 Main Street, Buffalo, NY 14209-2196, Amount Awarded: $12,993.00

Berks Community Action Program/Budget Counceling Center, Post Office Box 22, Berks County, Reading, PA 19603-0022, Amount Awarded: $16,001.00

Better Housing League of Greater Cinti, 2400 Reading Road, Cincinnati, OH 45202, Amount Awarded: $25,735.00

Better Neighborhoods Incorporated, 986 Albany Street, Schenectady, NY 12307, Amount Awarded: $13,331.00

Bishop Sheen Ecumenical Housing Foundation, Inc., 935 East Avenue, Rochester, NY 14607, Amount Awarded: $12,545.00

Black Rock Riverside Neighborhood Housing Services, Inc., 203 Miltary Road, Buffalo, NY 14207, Amount Awarded: $10,423.00

Catholic Charities, 320 Cathedral Street, Baltimore, MD 21201, Amount Awarded: $12,556.00

Catholic Charities, Diocese of Metuchen, 540-550 Route 22 East, Brigewater, Somerset, NJ 08807, Amount Awarded: $13,632.00

Center City Neighborhood Development Corporation, 1818 Main Street, Niagara Falls, NY 14305, Amount Awarded: $12,320.00

Center for Independent Living of Southwestern Penna, 7110 Penn Avenue, Pittsburg, PA 15208, Amount Awarded: $11,872.00

Chautauqua Opportunities, Inc., 17 West Courtney Street, Dunkirk, NY 14048, Amount Awarded: $12,545.00

Citizen Action of New Jersey, 400 Main Street, Hackensack, NJ 07601, Amount Awarded: $22,427.00

City of Frederick, 100 South Market Street, Frederick County, Frederick, MD 21701, Amount Awarded: $8,001.00

Coastal Enterprises, Inc., 36 Water Street, Wiscasset, ME 04578, Amount Awarded: $12,508.00

Commission on Economic Opportunity, 165 Amber Lane, Wilkes-Barre, PA 18702, Amount Awarded: $13,001.00

Community Action Commission of Belmont Cty, 410 Fox-Shannon Place, St. Clairsville, OH 43950, Amount Awarded: $20,735.00

Community Action Commission of Fayette County, Inc, 324 East Court Street, Fayette County, OH 43160, Amount Awarded: $15,735.00

Community Action Program Madison County, 3 East Main Street, P.O. Box 249, Morrisville, NY 13408, Amount Awarded: $11,723.00

Community Action Southwest, 315 East Hallam Avenue, Washington, PA 15301, Amount Awarded: $12,031.00

Community Assistance Network, Inc., 7701 Dunmanway, Baltimore, MD 21222, Amount Awarded: $11,556.00

Community Development Corporation of Long Island, 2100 Middle Country Road, Centereach, NY 11720, Amount Awarded: $13,223.00

Community Housing, Inc., 613 Washington Street, Wilmington, DE 19801, Amount Awarded: $12,001.00

Consumer Credit Counseling Service of Greater Washington, 15847 Crabbs Branch Way, Rockville, MD 20855, Amount Awarded: $11,075.00

Consumer Credit Counseling Services of Maine Inc, 111 Wescott Road South Portland, ME 04106, Amount Awarded: $12,644.00

Cortland Housing Assistance Council, Inc., 159 Main Street, Cortland, NY 13045, Amount Awarded: $7,000.00

County Commissioner of Carroll County, 10 Distillery Drive, Suite 101, Westminster, MD 21157-5194, Amount Awarded: $11,917.00

Cypress Hills Local Development Corp., 625 Jamaica Avenue, Kings County, Brooklyn, NY 11208, Amount Awarded: $12,952.00

Detroit Non-Profit Housing Corporation, 1200 Sixth Street, Suite 404, Detroit, MI 48226, Amount Awarded: $26,833.00

Druid Heights Community Development Corporation, 1821 McCulloh Street, Baltimore, MD 21217, Amount Awarded: $14,587.00

Economic Opportunity Cabinet of Schuylkill County, 225 N. Centre Street, Pottsville, PA 17901, Amount Awarded: $12,314.00

Fair Housing Contact Service, 333 South Main Street—Suite 300, Akron, OH 44308, Amount Awarded: $25,735.00

Family and Children's Association, 336 Fulton Avenue, Hempstead, NY 11550, Amount Awarded: $12,675.00

Family Service—Upper Ohio Valley, 51 Eleventh Street, Wheeling, WV 26003, Amount Awarded: $12,551.00

Fayette County Community Action Agency, Inc, 137 N. Beeson Avenue, Uniontown, PA 15401, Amount Awarded: $11,713.00

First State Community Action Agency, Inc., 308 North Railroad Avenue, P.O. Box 877, Georgetown, DE 19947, Amount Awarded: $16,502.00

Garfield Jubilee Association, Inc., 5138 Penn Avenue, Pittsburgh, PA 15224, Amount Awarded: $12,232.00

Greater Boston Legal Services, Inc., 197 Friend Street, Boston, MA 02114, Amount Awarded: $15,631.00

Hampton Redevelopment & Housing Authority, P.O. Box 280, 22 Lincoln Street, Hampton, VA 23669, Amount Awarded: $11,052.00

Harford County, 15 South Main Street—Suite 106, Harford County, Bel Air, MD 21014, Amount Awarded: $11,028.00

Harlem Park Revitalization Corporation, 1017 Edmondson Avenue, Baltimore, MD 21223, Amount Awarded: $12,389.00

Harrisburg Fair Housing Council, 2100 North 6th Street, Harrisburg, PA 17110, Amount Awarded: $12,480.00

Home Partnership, Inc., 1221 B Brass Mill Road, Belcamp, MD 21017, Amount Awarded: $14,189.00

Housing Coalition of Central Jersey, 78 New Street, New Brunswick, NJ 08901, Amount Awarded: $15,428.00

Housing Consortium for Disabled Individuals, 4040 Market Street, Philadelphia, PA 19104, Amount Awarded: $11,790.00

Housing Council of York, Inc., 116 North George Street, York County, York, PA 17401, Amount Awarded: $17,506.00

Housing Counseling Services, Inc., 2430 Ontario Road N.W., Washington, DC 20009, Amount Awarded: $30,000.00

Housing Oppor. Made Equal of Richmond, 2201 West Broad St—Suite 200, Richmond, VA 23220, Amount Awarded: $12,197.00

Isles Inc., 10 Wood Street, Trenton, NJ 08618, Amount Awarded: $14,879.00

Jamaica Housing Improvement, Inc, 161-10 Jamaica Avenue, Suite 601, Jamaica, NY 11432, Amount Awarded: $16,693.00

Jersey Counselling and Housing Development, Inc., 1840 South Broadway, Camden City, NJ 08104, Amount Awarded: $15,876.00

Keystone Legal Services, Inc., 2054 East College Ave., State College, PA 16801, Amount Awarded: $12,087.00

Long Island Housing Services, Inc, 3900 Veterans Memorial Highway-Suite 251, Bohemia, NY 11716, Amount Awarded: $14,693.00

Lutheran Housing Corporation, 13944 Euclid Avenue, Suite 208, East Cleveland, OH 44112, Amount Awarded: $25,735.00

Lynchburg Community Action Group, Inc, 1310 Church Street, Lynchburg, VA 24504, Amount Awarded: $12,988.00

Margert Community Corporation, 1931 Mott Avenue, Room 412, Far Rockaway, NY 11691, Amount Awarded: $12,133.00

Marshall Heights Community Dev., Org, 3917 Minnesota Avenue, Washington, DC 20019, Amount Awarded: $25,000.00

Maryland Rural Development Corporation, 428 4th Street, Annapolis, MD 21403, Amount Awarded: $11,917.00

Mercer County Hispanic Assn.—MECHA, 200 East State Street 2nd Floor, P.O. Box 1331, Trenton, NJ 08607, Amount Awarded: $13,576.00

Metro Interfaith Services, Inc, 21 New Street, Binghamton, NY 13903, Amount Awarded: $10,018.00

Michigan Housing Counselors, Inc., 237 S.B. Gratiot, Mt. Clemens, MI 48043, Amount Awarded: $18,856.00

Monmouth County Board of Chosen Freeholders, P.O. Box 1255, Freehold, NJ 07728, Amount Awarded: $15,391.00

Monticello Area Community Action Agency, 1025 Park Street, Charlottesville, VA 22901, Amount Awarded: $10,197.00

NCALL Research, Inc., 20 East Division Street, P.O. Box 1092, Dover, DE 19903-1092, Amount Awarded: $14,165.00

Near Northeast Community Improvement Corporation, 1326 Florida Avenue—N.E., Washington, DC 20002, Amount Awarded: $20,000.00

Neighborhood Housing Services of New Britain, Inc 223 Broad Street, New Britian, CT 06053, Amount Awarded: $31,622.00

Neighborhood Housing Services of NYC, 121 W. 27th Street, New York, NY 10001, Amount Awarded: $12,223.00

Neighbors Helping Neighbors, Inc., 5313 5th Avenue, Brooklyn, NY 11220, Amount Awarded: $12,946.00

Northwest Counseling Service, Inc., 5001 North Broad Street, Philadelphia, PA 19141, Amount Awarded: $17,793.00

Oakland County Michigan, 1200 North Telegraph Road, Oakland County, Pontiac, MI 48341-9901, Amount Awarded: $29,009.00

Office of Human Affairs, 6060 Jefferson Avenue., Suite 12C, P.O. Box 37, Newport News, VA 23607, Amount Awarded: $12,676.00

Open Housing Center, Inc., 594 Broadway, Suite 608, New York, NY 10012, Amount Awarded: $13,314.00

Paterson Coalition for Housing, Inc., 262 Main Street, 5th Floor, Paterson, NJ 07505, Amount Awarded: $13,412.00

People Incorporated of Southwest Virginia, 1173 West Main Street, Abington, VA 24210, Amount Awarded: $10,988.00

Philadelphia Council for Community Advancement, 100 North 17th Street, Suite 700, Philadelphia, PA 19107, Amount Awarded: $16,937.00

Piedmont Housing Alliance, 515 Park Street, Charlottesville, VA 22902, Amount Awarded: $12,468.00

Plymouth Redevelopment Authority, 11 Lincoln Street, Plymouth, MA 02360, Amount Awarded: $14,000.00

Pontiac Neighborhood Housing Services, 69 South Ardmore, Pontiac, MI 48342, Amount Awarded: $35,174.00

Prince William County, 8033 Ashton Avenue, Suite 105, Manassas, VA 20109, Amount Awarded: $16,409.00

Putnam County Housing Corporation, 5 Seminary Hill Road, Carmel, NY 10512, Amount Awarded: $11,494.00

Quincy Community Action Programs, Inc., 1509 Hancock Street, Norfolk County, Quincy, MA 02169, Amount Awarded: $10,500.00

Resources for Human Development, 4333 Kelly Drive, Philadelphia, PA 19129, Amount Awarded: $11,563.00

Rockland Housing Action Coalition, Inc, 747 Chestnut Street, Chestnut Ridge, NY 10977, Amount Awarded: $12,133.00

Rural Sullivan County Housing Opp., Inc, P.O. Box 1497, Monticello, NY 12701, Amount Awarded: $14,900.00

Rural Ulster Preservation Company, Inc., 289 Fair Street, Ulster County, Kingston, NY 12401, Amount Awarded: $11,090.00

Senior Citizens United Community Services of CC, Inc, 146 Black Horse Pike, Mt. Ephraim, NJ 08059, Amount Awarded: $8,000.00

Shore Up, Inc., 520 Snow Hill Rd, Salisbury, MD 21803, Amount Awarded: $12,352.00

Skyline Cap, Inc, P.O. Box 588, Madison, VA 22727, Amount Awarded: $12,532.00

Somerset County Coalition on Affordable Housing, One West Main Street, 2nd Floor, Somerville, NJ 08876, Amount Awarded: $17,265.00

Southeast Development, Inc., 10 South Wolfe Street, Baltimore, MD 21234, Amount Awarded: $11,871.00

Southside Community Development & Housing Corp., 1624 Hull Street, Richmond, VA 23224, Amount Awarded: $11,884.00

St. Ambrose Housing Aid Center, 321 East 25th Street, Baltimore, MD 21218, Amount Awarded: $12,278.00

Tabor Community Services Inc, 439 East King St., Lancaster, PA 17602, Amount Awarded: $14,313.00

Telamon Corporation, 4915 Radford Avenue, Suite 202-A, Richmond, VA 23230, Amount Awarded: $12,197.00

The Housing Council in the Monroe County Area, 183 East Maint Street, Suite 1100, Rochester, NY 14604, Amount Awarded: $11,993.00

The Trehab Center, 10 Public Avenue, P.O. Box 366, Montrose, PA 18801, Amount Awarded: $14,301.00

Total Action Against Poverty (TAP), 145 Campbell Avenue, S.W., Roanoke, VA 24001-2868, Amount Awarded: $13,721.00

Tri-Churches Housing, Inc., 815 Scott Street, Baltimore, MD 21230, Amount Awarded: $11,000.00

University Legal Services, 300 I Street, NE, Suite 202, Washington, DC 20002, Amount Awarded: $32,537.00

Urban League of Rhode Island, Inc., 246 Prairie Avenue, Providence County, Providence, RI 02905, Amount Awarded: $16,747.00

Virginia Eastern Shore Economic Empowerment & HSG. Corp., P.O. Box 814, Nassawadox, VA 23413, Amount Awarded: $10,364.00

Westchester Residential Opportunities, Inc, 470 Mamaroneck Avenue, Suite 410, White Plains, NY 10605, Amount Awarded: $11,037.00

YWCA of New Castle County, 233 King Street, Wilmington, DE 19801, Amount Awarded: $15,051.00

Santa Ana (HOC)

Access, Inc., 3630 Aviation Way, Medford, OR 97504, Amount Awarded: $5,024.00

Administration of Resources and Choices, 209 South Tucson Blvd., P.O. Box 86802, Tucson, AZ 85754, Amount Awarded: $10,961.00

Central Oregon Comm Action Agency Network, 2303 SW First Street, Redmond, OR 97756, Amount Awarded: $5,648.00

Chicanos por la Causa, Inc., 1112 East Buckeye Road, Phoenix, AZ 85034, Amount Awarded: $50,000.00

City of Vacaville, Office of Housing and Redevelopment, 40 Eldridge Avenue, Suite 1-5, Vacaville, CA 95688, Amount Awarded: $9,652.00

Community Action Agency, 124 New 6th Street, Lewiston, ID 83501, Amount Awarded: $25,775.00

Community Health Center La Clinica, P.O. Box 1323, Pasco, WA 99301, Amount Awarded: $18,203.00

Community Housing & Credit Counseling Center (CHCCC), 1001 Willow St., Chico, CA 95928, Amount Awarded: $29,594.00

Community Housing & Shelter Services, PO Box 881, Modesto, CA 95353, Amount Awarded: $40,000.00

Community Housing Resource Center, 5212 NE St. John Road, Suite B, Vancouver, WA 98661, Amount Awarded: $8,373.00

Consumer Credit Counseling Service of Alaska, 208 East 4th Avenue, Anchorage, AK 99501, Amount Awarded: $12,357.00

Consumer Credit Counseling Service of Central Valley Inc, 4969 E. McKinley, Suite #107, Fresno, CA 93727, Amount Awarded: $53,092.00

Consumer Credit Counseling Service of Inland Empire, 6370 Magnolia Avenue, Suite 200, Riverside, CA 92506, Amount Awarded: $100,000.00

Consumer Credit Counseling Service of Los Angeles, 500 Citadel Drive, Suite #300, Los Angeles, CA 90040, Amount Awarded: $100,000.00

Consumer Credit Counseling Service of Mid Counties, 2575 Grand Canal Blvd., Suite 100, Stockton, CA 95207, Amount Awarded: $36,768.00

Consumer Credit Counseling Service of Orange County, P.O. Box 11330, 1920 Old Tustin Avenue, Santa Ana, CA 92705, Amount Awarded: $40,000.00

Consumer Credit Counseling Service of South Nevada, 3650 S. Decatur, Suite 30, Las Vegas, NV 89103, Amount Awarded: $38,661.00

Consumer Credit Counseling Service of the Sacramento Valley, 8795 Folsom Blvd., Suite 250, Sacramento, CA 95826, Amount Awarded: $36,172.00

Consumer Credit Counselors of Kern County, Inc., 5300 Lennox Avenue, Suite 200, Bakersfield, CA 93309, Amount Awarded: $44,971.00

Consumer Credit Counselors of San Diego and Imperial Co., 1550 Hotel Circle N., Suite 110, San Diego, CA 92108-2907, Amount Awarded: $13,945.00

Consumer Credit Service of the East Bay, 333 Hezenberger Road, Suite 710, Oakland, CA 94621, Amount Awarded: $8,588.00

Eden Council for Hope and Opportunity, 770 A Street, Hayward, CA 94541, Amount Awarded: $11,096.00

Family Housing Resources, Inc., 3777 East Broadway, Suite 100, Tucson, AZ 85716, Amount Awarded: $7,307.00

Fremont Public Association, P.O. Box 31151, Seattle, WA 98103, Amount Awarded: $24,630.00

Housing Authority of the County of Santa Barbara, 815 W. Ocean Avenue, P.O. Box 397, Lompoc, CA 93436-6526, Amount Awarded: $25,000.00

Housing Authority of the County of Santa Cruz, 2160 41st Avenue, Capitola, CA 95010-2060, Amount Awarded: $5,928.00

Inland Fair Housing and Mediation Board, 1005 Begonia Avenue, Ontario, CA 91762, Amount Awarded: $65,485.00

Labor's Community Service Agency, 5818 N. 7th Street. #100, Phoenix, AZ 85014, Amount Awarded: $57,020.00

Legal Aid Society of Hawaii, 924 Bethel Street, Honolulu, HI 96813, Amount Awarded: $10,566.00

Neighborhood House Association, 5660 Copley Drive, San Diego, CA 92111, Amount Awarded: $13,724.00

Open Door Counseling Social Service, 34420 SW Tualatin Valley Highway, Hillsboro, OR 97123, Amount Awarded: $9,621.00

Orange County Fair Housing Council, 201 South Broadway, Santa Ana, CA 92701-5633, Amount Awarded: $80,400.00

Pacific Community Services, Inc., P.O. Box 1397, 329 Railroad Avenue, Pittsburg, CA 94565, Amount Awarded: $7,144.00

Pierce County Department of Community Services, Community Action Program, 8811 South Tacoma, Lakewood, WA 98499, Amount Awarded: $21,710.00

Portland Housing Center, 1605 NE 45th, Portland, OR 97213, Amount Awarded: $6,600.00

Project Sentinel, 430 Sherman Avenue, Ste 308, Palo Alto, CA 94306, Amount Awarded: $8,284.00

San Diego Home Loan Counseling Service, 3180 University Avenue, Ste 430, San Diego, CA 92104, Amount Awarded: $14,658.00

San Francisco Housing Development Corp., 1095 Market Street, Suite 818, San Franciso, CA 94103, Amount Awarded: $7,296.00

Southeastern Arizona Government Organization, 118 Arizona Street, Bisbee, AZ 85603, Amount Awarded: $8,715.00

Spokane Neighborhood Action Program, 2116 East First Avenue, Spokane, WA 99202, Amount Awarded: $26,065.00

Umpqua Community Action Network, 2448 West Harvard, Roseburg, OR 97470, Amount Awarded: $9,555.00

Washoe Legal Services, 650 Tahoe Street, Reno, NV 89509, Amount Awarded: $11,261.00

Women's Development Center, 953 E. Sahara, Suite #201, Las Vegas, NV 89128, Amount Awarded: $40,000.00

[FR Doc. 01-8940 Filed 4-10-01; 8:45 am]

BILLING CODE 4210-27-P